Executive Order 14264 of April 9, 2025

Maintaining Acceptable Water Pressure in Showerheads

By the authority vested in me as President by the Constitution and the laws of the United States of America, it is hereby ordered:

Section 1. Purpose. Overregulation chokes the American economy and stifles personal freedom. A small but meaningful example is the Obama-Biden war on showers: Twice in the last 12 years, those administrations promulgated multi-thousand-word regulations defining the word “showerhead.” See Energy Conservation Program: Definition of Showerhead, 86 Fed. Reg. 71797 (December 20, 2021); Energy Conservation Program for Consumer Products and Certain Commercial and Industrial Equipment: Test Procedures for Showerheads, Faucets, Water Closets, Urinals, and Commercial Prerinse Spray Valves, 78 Fed. Reg. 62970 (October 23, 2013). To the extent any definition is necessary for this common piece of hardware, the Oxford English Dictionary defines “showerhead” in one short sentence.

Sec. 2. Ordering the Repeal of the 13,000-Word Regulation Defining “Showerhead”. I hereby direct the Secretary of Energy to publish in the Federal Register a notice rescinding Energy Conservation Program: Definition of Showerhead, 86 Fed. Reg. 71797 (December 20, 2021), including the definition of “showerhead” codified at 10 C.F.R. 430.2. Notice and comment is unnecessary because I am ordering the repeal. The rescission shall be effective 30 days from the date of publication of the notice.

Sec. 3. General Provisions. (a) Nothing in this order shall be construed to impair or otherwise affect the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

April 9, 2025.

[FR Doc. 2025-06459

Filed 4-14-25; 8:45 am]

Billing code 3395-F4-P